DEPARTMENT OF LABOR

Employment and Training Administration

[TA-W-59,001]

Corestaff, Boulder, Colorado; Notice of Termination of Investigation

Pursuant to Section 221 of the Trade Act of 1974, as amended, an investigation was initiated on March 13, 2006 in response to a worker petition filed a state representative (Colorado) on behalf of workers at Corestaff, Boulder, Colorado.

The petitioning group of workers is covered by an active certification (TA-W-59,072) which expires on March 22, 2008. Consequently, further investigation in this case would serve no purpose, and the investigation has been terminated.

Signed at Washington, DC, this 30th day of March 2006.
Richard Church,
Certifying Officer, Division of Trade Adjustment Assistance.

[FR Doc. E6-5417 Filed 4-11-06; 8:45 am]

BILLING CODE 4510-30-P